NUCLEAR REGULATORY COMMISSION

[Docket Nos. 50-282 and 50-306; NRC-2009-0507]

Northern States Power Company—Minnesota; Prairie Island Nuclear Generating Plant, Units 1 and 2; Notice of Issuance of Renewed Facility Operating License Nos. DPR-42 and DPR-60 for an Additional 20-Year Period; Record of Decision

Notice is hereby given that the U.S. Nuclear Regulatory Commission (NRC, the Commission) has issued Renewed Facility Operating License Nos. DPR-42 and DPR-60 to Northern States Power Company—Minnesota (licensee), the operator of Prairie Island Nuclear Generating Plant, Units 1 and 2 (PINGP). Renewed Facility Operating License Nos. DPR-42 and DPR-60 authorize the licensee to operate PINGP at reactor core power levels not in excess of 1,677 megawatts thermal for each unit, in accordance with the provisions of the PINGP renewed licenses and technical specifications.

The notice also serves as the record of decision for Renewed Facility Operating License Nos. DPR-42 and DPR-60, consistent with Title 10 of the Code of Federal Regulations (10 CFR) 51.103, “Record of Decision—General.” NUREG-1437, “Generic Environmental Impact Statement for License Renewal of Nuclear Plants, Supplement 39, Regarding Prairie Island Nuclear Generating Plant, Units 1 and 2,” issued May 2011, discusses the Commission's consideration of a range of reasonable alternatives, including replacement power from a new natural-gas-fired, combined-cycle plant; a combination of natural gas, wind, and wood-fired generation and conservation; a combination of wind, conservation, and continued operation of one of the PINGP units; and not renewing the licenses (the no-action alternative). The factors considered in the record of decision appear in the supplemental environmental impact statement (SEIS) for PINGP. Subsequent to the issuance of the final SEIS, the NRC received two letters commenting on the final SEIS. The first letter was from the U.S. Environmental Protection Agency, Region 5, dated June 15, 2011. The second letter was from the Prairie Island Indian Community, dated June 20, 2011. The NRC staff has reviewed the comments and has determined that the comments provide no new or significant information, and therefore, none of the findings in the final SEIS are changed as a result of the comments.

The PINGP units are pressurized-water reactors located within the city limits of Red Wing, MN, on the west bank of the Mississippi River in southeastern Minnesota. The application for the renewed licenses complied with the standards and requirements of the Atomic Energy Act of 1954, as amended, and the Commission's regulations. As required by the Atomic Energy Act and the Commission's regulations in 10 CFR chapter I, the Commission has made appropriate findings, which are set forth in the licenses. Prior public notice of the action involving the proposed issuance of the renewed licenses and of an opportunity for a hearing on the proposed issuance of the renewed licenses was published in the Federal Register on June 17, 2008 (73 FR 34335).

For further details with respect to this action, see (1) Northern States Power Company's license renewal application for PINGP dated April 11, 2008, as supplemented by letters dated through May 11, 2011; (2) the Commission's safety evaluation report, issued October 16, 2009, and supplemented on April 15, 2011; (3) the licensee's updated safety analysis report; and (4) the Commission's final environmental impact statement (NUREG-1437, Supplement 39), issued May 2011. These documents are available at the NRC's Public Document Room, One White Flint North, 11555 Rockville Pike, Rockville, MD 20852, and online in the NRC Library at http://www.nrc.gov/reading-rm/adams.html.

Copies of Renewed Facility Operating License Nos. DPR-42 and DPR-60, may be obtained by writing to the U.S. Nuclear Regulatory Commission, Washington, DC 20555-0001, Attention: Director, Division of License Renewal. Copies of the PINGP safety evaluation report and the final environmental impact statement (NUREG-1437, Supplement 39) may be purchased from the National Technical Information Service, U.S. Department of Commerce, Springfield, VA 22161, (http://www.ntis.gov), 703-605-6000, or Attention: Superintendent of Documents, U.S. Government Printing Office, P.O. Box 371954, Pittsburgh, PA 15250-7954, (http://www.gpo.gov/fdsys), 202-512-1800. All orders should clearly identify the NRC publication number and the requestor's Government Printing Office deposit account number or VISA or MasterCard number and expiration date.

Dated at Rockville, MD, this 27th day of June 2011.
For the Nuclear Regulatory Commission.
Bo M. Pham,
Chief, Projects Branch 1, Division of License Renewal, Office of Nuclear Reactor Regulation.

[FR Doc. 2011-16848 Filed 7-5-11; 8:45 am]

BILLING CODE 7590-01-P